NATIONAL ARCHIVES AND RECORDS ADMINISTRATION

[NARA-22-0017; NARA-2022-063]

Records Schedules; Administrative Correction Notice

AGENCY: National Archives and Records Administration (NARA).

ACTION: Notice of administrative correction to a records schedule.

SUMMARY: We are making the following administrative correction to DAA-0266-2015-0004, Securities and Exchange Commission, to remove the item for records of reorganization proceedings because such records are already covered by other items on the schedule. An administrative correction addresses errors or oversights to temporary items in an approved records schedule.

DATES: Submit any comments by October 31, 2022.

ADDRESSES: You can find the records schedule subject to this proposed administrative correction on our website's Records Control Schedule page at https://www.archives.gov/records-mgmt/rcs/schedules/index.html?dir=/independent-agencies/rg-0266.

You may submit comments by the following method: Federal eRulemaking Portal: https://www.regulations.gov. On the website, enter either of the numbers cited at the top of this notice into the search field. This will bring you to the docket for this notice which has a `comment' button to submit a comment. For more information on regulations.gov and on submitting comments, see their FAQs at https://www.regulations.gov/faq.

If you are unable to comment via regulations.gov, you may email us at request.schedule@nara.gov for instructions on submitting your comment. You must cite the control number of the schedule you wish to comment on.

FOR FURTHER INFORMATION CONTACT: Kimberly Richardson, Regulatory and External Policy Program Manager, by email at regulation_comments@nara.gov or by phone at 301-837-2902. For information about records schedules, contact Records Management Operations by email at request.schedule@nara.gov.

SUPPLEMENTARY INFORMATION: Administrative corrections are changes to temporary items on approved records schedules to address errors or oversights when the records were originally scheduled. The notice applies only to the changes described, not to other portions of a schedule. Submitting agencies cannot implement administrative corrections until the comment period ends and NARA approves the changes.

Read the proposed administrative correction in conjunction with the previously approved DAA-0266-2015-0004-0005, Office of General Counsel, Securities and Exchange Commission, Office of the General Counsel Records and NC1-266-77-002-85, Securities and Exchange Commission, Comprehensive Schedule.

Proposed Change

We are making an administrative correction to remove schedule item DAA-0266-2015-0004-0005 (Reorganization Proceedings). We reviewed the administrative record and determined that, when the schedule was created, neither NARA nor the SEC took into consideration changes to the Bankruptcy Code that impacted SEC's role and the records that would be created. As a result, a separate series for Reorganization Proceedings was erroneously added to the schedule, even though such records are already covered by permanent and temporary schedule items 0001-0004. Records of Reorganization Proceedings were previously scheduled under item NC1-266-77-002 item 85 (SEC File Nos. 206-, 207- to 215-, 217-). At that time, the records documented the SEC's substantial role in reorganization proceedings. Since NC1-266-77-0002 was approved, changes to bankruptcy laws substantially reduced the agency's role in reorganization proceedings. Under the current Bankruptcy Code, records subject to SEC review are covered by schedule items DAA-0266-2015-0004-0001, 0002, 0003 or 0004. Item 0005, proposed for removal, creates ambiguous disposition instructions as it overlaps with the other items. Removing the item allows the agency to implement appropriate disposition for records produced under the current law using the remaining schedule items.

Laurence Brewer,
Chief Records Officer for the U.S. Government.

[FR Doc. 2022-19824 Filed 9-13-22; 8:45 am]

BILLING CODE 7515-01-P